DEPARTMENT OF ENERGY

Federal Energy Regulatory Commission

Combined Notice of Filings #1

Take notice that the Commission received the following electric corporate filings:

Docket Numbers: EC25-35-000.

Applicants: West Deptford Energy, LLC.

Description: Application for Authorization Under Section 203 of the Federal Power Act of West Deptford Energy, LLC.

Filed Date: 12/27/24.

Accession Number: 20241227-5234.

Comment Date: 5 p.m. ET 1/17/25.

Docket Numbers: EC25-36-000.

Applicants: Brookfield Smoky Mountain Hydropower LP, Smoky Mountain Transmission LLC.

Description: Joint Application for Authorization Under Section 203 of the Federal Power Act of Brookfield Smoky Mountain, et al.

Filed Date: 12/30/24.

Accession Number: 20241230-5391.

Comment Date: 5 p.m. ET 1/21/25.

Take notice that the Commission received the following electric rate filings:

Docket Numbers: ER10-2881-043; ER15-647-009; ER15-2191-008; ER16-750-009; ER16-2659-007; ER19-2005-003; ER20-136-004; ER21-2287-003.

Applicants: Glass Sands Wind Energy, LLC, Reading Wind Energy, LLC, Wildhorse Wind Energy, LLC, Grant Plains Wind, LLC, Bethel Wind Farm LLC, Grant Wind, LLC, Kay Wind, LLC, Alabama Power Company.

Description: Triennial Market Power Analysis for Southwest Power Pool Inc. Region of Alabama Power Co., et al.

Filed Date: 12/30/24.

Accession Number: 20241230-5393.

Comment Date: 5 p.m. ET 2/28/25

Docket Numbers: ER10-2906-021; ER19-1716-009; ER24-2581-001; ER24-2611-001.

Applicants: Energy Prepay IV, LLC, Energy Prepay III, LLC, Morgan Stanley Energy Structuring, L.L.C., Morgan Stanley Capital Group Inc.

Description: Triennial Market Power Analysis for Southwest Region of Morgan Stanley Capital Group Inc., et al. under ER10-2906, et al.

Filed Date: 12/30/24.

Accession Number: 20241230-5401.

Comment Date: 5 p.m. ET 2/28/25.

Docket Numbers: ER10-3050-015; ER10-3053-015.

Applicants: Whitewater Hill Wind Partners, LLC, Cabazon Wind Partners, LLC.

Description: Triennial Market Power Analysis for Southwest Region of Cabazon Wind Partners, LLC, et al.

Filed Date: 12/30/24.

Accession Number: 20241230-5399.

Comment Date: 5 p.m. ET 2/28/25.

Docket Numbers: ER10-3117-012.

Applicants: Lea Power Partners, LLC.

Description: Triennial Market Power Analysis for Southwest Power Pool Inc. Region of Lea Power Partners, LLC.

Filed Date: 12/31/24.

Accession Number: 20241231-5186.

Comment Date: 5 p.m. ET 3/3/25.

Docket Numbers: ER11-3576-018; ER11-3401-017.

Applicants: Golden Spread Panhandle Wind Ranch, LLC, Golden Spread Electric Cooperative, Inc.

Description: Triennial Market Power Analysis for Southwest Power Pool Inc. Region of Golden Spread Electric Cooperative, Inc., et al.

Filed Date: 12/31/24.

Accession Number: 20241231-5204.

Comment Date: 5 p.m. ET 3/3/25.

Docket Numbers: ER14-2499-008.

Applicants: Oneta Power, LLC.

Description: Triennial Market Power Analysis for Southwest Power Pool Inc. Region of Oneta Power, LLC.

Filed Date: 12/31/24.

Accession Number: 20241231-5184.

Comment Date: 5 p.m. ET 3/3/25.

Docket Numbers: ER19-1575-014; ER10-2488-031; ER13-1586-026; ER14-2871-025; ER15-463-024; ER15-621-024; ER15-622-024; ER16-72-020; ER16-182-020; ER16-902-017; ER17-47-017; ER17-48-018; ER18-47-017; ER18-2240-013; ER18-2241-013; ER19-1660-013; ER19-1662-013; ER20-71-013; ER20-72-013; ER20-75-013; ER20-76-015; ER20-77-013; ER20-79-013; ER21-1368-009; ER21-2782-010; ER22-149-011; ER22-2419-007; ER22-2420-007; ER23-562-007; ER23-1048-007; ER23-2001-007; ER24-916-003; ER24-917-004; ER24-2257-003; ER24-2258-003.

Applicants: Lockhart CL ESS II, LLC, Lockhart CL ESS I, LLC, Placerita ESS, LLC, Beaumont ESS, LLC, Sagebrush ESS II, LLC, Lockhart ESS, LLC, TGP Energy Management II, LLC, Lockhart Solar PV II, LLC, Lockhart Solar PV, LLC, Sagebrush Line, LLC, Sagebrush ESS, LLC, Valley Center ESS, LLC, Voyager Wind IV Expansion, LLC, Painted Hills Wind Holdings, LLC, Oasis Plains Wind, LLC, Oasis Alta, LLC, Coachella Wind Holdings, LLC, Coachella Hills Wind, LLC, Mojave 16/17/18 LLC, Mojave 3/4/5 LLC, Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC, TGP Energy Management, LLC, Oasis Power Partners, LLC, Alta Oak Realty, LLC.

Description: Triennial Market Power Analysis for Southwest Region of Alta Oak Realty, LLC et al.

Filed Date: 12/30/24.

Accession Number: 20241230-5395.

Comment Date: 5 p.m. ET 2/28/25.

Docket Numbers: ER19-2534-004; ER19-2434-004.

Applicants: Citizens Imperial Solar LLC, Citizens Energy Corporation.

Description: Triennial Market Power Analysis for Southwest Region of Citizens Energy Corporation, et al.

Filed Date: 12/30/24.

Accession Number: 20241230-5400.

Comment Date: 5 p.m. ET 2/28/25.

Docket Numbers: ER20-539-007; ER16-581-015; ER16-2271-014; ER17-1370-014; ER19-828-007; ER20-1338-006; ER20-2505-005; ER21-1254-008; ER21-2204-008; ER21-2279-004; ER23-2712-002.

Applicants: North Bend Wind Project, LLC, Iron Star Wind Project, LLC, ENGIE Power & Gas LLC, Genbright LLC, Triple H Wind Project, LLC, King Plains Wind Project, LLC, Solomon Forks Wind Project, LLC, ENGIE Energy Marketing NA, Inc., ENGIE Resources LLC, ENGIE Portfolio Management, LLC, East Fork Wind Project, LLC.

Description: Triennial Market Power Analysis for Southwest Power Pool Inc. Region of East Fork Wind Project, LLC, et al.

Filed Date: 12/30/24.

Accession Number: 20241230-5394.

Comment Date: 5 p.m. ET 2/28/25.

Docket Numbers: ER21-2270-001; ER18-784-007; ER20-956-006.

Applicants: Thunderhead Wind Energy LLC, Upstream Wind Energy LLC, Jayhawk Wind, LLC.

Description: Triennial Market Power Analysis for Southwest Power Pool Inc. Region of Jayhawk Wind, LLC, et al.

Filed Date: 12/30/24.

Accession Number: 20241230-5397.

Comment Date: 5 p.m. ET 2/28/25.

Docket Numbers: ER21-2652-006; ER20-1970-002.

Applicants: Diamond Spring, LLC, Caddo Wind, LLC.

Description: Triennial Market Power Analysis for Southwest Power Pool Inc. Region of Caddo Wind, LLC, et al.

Filed Date: 12/30/24.

Accession Number: 20241230-5396.

Comment Date: 5 p.m. ET 2/28/25.

Docket Numbers: ER22-1439-011; ER21-1369-010; ER21-1371-010; ER21-1373-011; ER21-1376-011; ER22-1440-011; ER22-1441-011; ER22-1442-009.

Applicants: EdSan 1B Group 3, LLC, EdSan 1B Group 2, LLC, EdSan 1B Group 1 Sanborn, LLC, Sanborn Solar 1A, LLC, Edwards Solar 1A, LLC, Edwards Sanborn Storage II, LLC, Edwards Sanborn Storage I, LLC, EdSan 1B Group 1 Edwards, LLC.

Description: Triennial Market Power Analysis for Southwest Region of EdSan 1B Group 1 Edwards, LLC, et al.

Filed Date: 12/30/24.

Accession Number: 20241230-5398.

Comment Date: 5 p.m. ET 2/28/25.

Docket Numbers: ER23-1277-004.

Applicants: Aron Energy Prepay 23 LLC.

Description: Triennial Market Power Analysis for Southwest Region of Aron Energy Prepay 23 LLC.

Filed Date: 12/31/24.

Accession Number: 20241231-5199.

Comment Date: 5 p.m. ET 3/3/25.

Docket Numbers: ER24-227-005.

Applicants: RPC Power, LLC.

Description: Triennial Market Power Analysis for Southwest Power Pool Inc. Region of RPC Power, LLC.

Filed Date: 12/31/24.

Accession Number: 20241231-5191.

Comment Date: 5 p.m. ET 3/3/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 31, 2024.
Debbie-Anne A. Reese,
Secretary.

[FR Doc. 2025-00093 Filed 1-6-25; 8:45 am]

BILLING CODE 6717-01-P